DEPARTMENT OF COMMERCE

Foreign-Trade Zones Board

[Docket 7-2009]

Foreign-Trade Zone 57 - Mecklenburg County, NC, Application for Subzone Status, FMS Enterprises USA, Inc. (Para-Aramid UD Shield)

An application has been submitted to the Foreign-Trade Zones Board (the Board) by the North Carolina Department of Commerce, grantee of FTZ 57, requesting special-purpose subzone status for the para-aramid UD shield manufacturing plant of FMS Enterprises USA, Inc. (FMS), located in Lincolnton, North Carolina. The application was submitted pursuant to the provisions of the Foreign-Trade Zones Act, as amended (19 U.S.C. 81a-81u), and the regulations of the Board (15 CFR part 400). It was formally filed on February 20, 2009.

The FMS facility (40 employees/23 acres/57,600 sq.ft.) is located at 2001 Kawai Road in Lincolnton, North Carolina. The plant is used to produce para-aramid UD shield tape (up to 3 million pounds per year) for export and the domestic market. The manufacturing process involves layering and bonding of para-aramid fibers under heat and pressure to create finished composite shield tape. Foreign-origin para-aramid fiber (HTSUS 5402.11, duty rate: 8.8%) is used as the primary production input, which represents up to 75 percent of finished product value.

FTZ procedures would exempt FMS from customs duty payments on the foreign para-aramid fiber used in export production (about 25% of annual shipments). On domestic shipments, the company could be able to elect the duty rate that applies to finished para-aramid UD shield tape (duty free) for the foreign material input noted above. The application indicates that the savings from FTZ procedures would help improve the facility's international competitiveness.In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is April 28, 2009. Rebuttal comments in response to material submitted during the foregoing period may be submitted during the subsequent 15-day period to May 13, 2009.

A copy of the application will be available for public inspection at the Office of the Foreign-Trade Zones Board's Executive Secretary at the address listed above and in the “Reading Room” section of the Board's website, which is accessible via www.trade.gov/ftz. For further information, contact Pierre Duy at: pierre_duy@ita.doc.gov, or (202) 482-1378.

Dated: February 20, 2009.
Andrew McGilvray,
Executive Secretary.

[FR Doc. E9-4237 Filed 2-26-09; 8:45 am]

BILLING CODE 3510-DS-S